DEPARTMENT OF DEFENSE

Department of the Army; Corps of Engineers

Intent To Prepare a Draft Environmental Impact Statement for the Raritan and Sandy Hook Bay, Combined Erosion and Storm Damage Reduction Project, Borough of Highlands, Monmouth County, NJ

AGENCY: Department of the Army, U.S. Army Corps of Engineers, DoD.

ACTION: Notice of intent.

SUMMARY: The New York District of the U.S. Army Corps of Engineers (Corps) is preparing a Draft Environmental Impact Statement (DEIS) to ascertain compliance with and to lead to the production of a National Environmental Policy Act (NEPA) document in accordance with the President's Council of Environmental Quality (CEQ) rules and regulations, as defined and amended in 40 CFR parts 1500-1508, Corps' principals and guidelines as defined in Engineering Regulation (ER) 200-2-2, ER 1105-2-100, and other applicable Federal and State environmental laws for the proposed erosion control and storm reduction efforts in the Borough of Highlands in Monmouth County, NJ.

The Borough of Highlands is located in the northeastern section of Monmouth County and is bounded on the north by Sandy Hook Bay and on the east by the Shrewsbury River. The project study area consists of approximately ⅓ of a square mile of densely developed marine, commercial, and residential buildings at the eastern terminus, and extends westward approximately 11,000 feet, bounded by Sandy Hook Bay to the south and NJ State Route 36 to the north.

FOR FURTHER INFORMATION CONTACT: Mr. Howard Ruben, Environmental Analyst, Planning Division, Environmental Analysis Branch, U.S. Army Corps of Engineers, New York District, 26 Federal Plaza, New York, NY 10278-0090, at 212-264-0206 or at howard.ruben@usace.army.mil. Written comments are to be provided to Mr. Ruben.

SUPPLEMENTARY INFORMATION: 1. The Combined Erosion Control and Storm Damage Prevention Pre-Feasibility Study for the Raritan Bay and Sandy Hook Bay, NJ, including the Borough of Highlands, was authorized by a resolution of the Committee on Public Works and Transportation of the U.S. House of Representatives adopted August 1, 1990, which states the following: “Resolved by the Committee on Public Works and Transportation of the United States House of Representatives, that, the Board of Engineers for Rivers and Harbors is requested to review the report of the Chief of Engineers on Raritan Bay and Sandy Hook Bay, New Jersey, published as House Document No. 464, Eighty-seventh Congress, Second Session, and other pertinent reports, to determine the advisability of modifications to the recommendations contained therein to provide erosion control and storm damage prevention for the Raritan Bay and Sandy Hook Bay.” The Water Resources Development Act of 1966 reauthorized the project, including uncompleted construction.

2. The previously authorized Federal project for Raritan Bay and Sandy Hook Bay, NJ, was authorized by the Flood Control Act of October 12, 1962, in accordance with House Document No. 464, Eighty-seventh Congress, Second Session. While this project resulted in construction of shore protection improvements within certain municipalities, improvements in Highlands were not considered economically feasible and therefore not recommended. It was noted in the 1962 study that Highlands is subject to severe damage from tidal flooding and that the problem would be further considered for development of an economically feasible plan. The area of Highlands was again addressed in the Raritan Bay and Sandy Hook Bay, New Jersey, Combined Flood Control and Shore Protection Reconnaissance Study Report, dated March 1993. This reconnaissance report covered municipalities extending westward from Highlands to South Amboy with concentration on Port Monmouth for which a specific plan of improvement was identified. Report findings concluded that, within the study area, shoreline protection and flood control projects in Highlands and five other communities appeared to be economically viable and were recommended to go forward with further studies. This was determined indirectly through means of a planning evaluation matrix that compared Port Monmouth criteria to damage mechanism and potential damage reduction benefits.

3. Two types of environmental analyses will be conducted; impacts associated with structural storm damage reduction improvements and analyses required for mitigation planning purposes.

4. Public scoping meetings are expected to be scheduled in September 2003. The meetings will be held in Monmouth County at locations not yet determined. Public notices identifying the location, date, and time for the meetings will be announced in local area newspapers. Results from the public scoping meetings with the District and Federal, State, and local agency coordination will be addressed in the scoping document. Parties interested in receiving notices of public scoping meetings or copies of the scoping document should contact Mr. Ruben at the above address.

5. Federal agencies interested in participating as a Cooperating Agency are requested to submit a letter of intent to Colonel John B. O'Dowd, District Engineer, at the above address.

6. Estimated Date of DEIS Availability: February 2005.

Leonard Houston,
Chief, Environmental Analysis Branch.

[FR Doc. 03-20265 Filed 8-7-03; 8:45 am]

BILLING CODE 3710-06-M